EXPORT-IMPORT BANK OF THE UNITED STATES

Sunshine Act Meeting

AGENCY: Export-Import Bank of the United States.

ACTION: Notice of a partially open meeting of the Board of Directors of the Export-Import Bank of the United States.

Time and Place: Tuesday, November 25, 2003 at 9:30 a.m. The meeting will be held at Ex-Im Bank in Room 1143, 811 Vermont Avenue, NW., Washington, DC 20571.

Open Agenda Item: Short Term Insurance Program for Iraq.

Public Participation: The meeting will be open to public participation for Item No. 1 only. Attendees that are not employees of the Executive Branch will be required to sign in prior to the meeting.

FOR FURTHER INFORMATION CONTACT: For further information, contact: Office of the Secretary, 811 Vermont Avenue, NW., Washington, DC 20571 (Telephone No. 202-565-3957).

Peter B. Saba,
General Counsel.

[FR Doc. 03-29424 Filed 11-20-03; 1:23 pm]

BILLING CODE 6690-01-M